FEDERAL COMMUNICATIONS COMMISSION

47 CFR Parts 36, 51, 52, 53, 54, 63, 64 and 69

[WC Docket No. 02-313; FCC 06-86]

Biennial Regulatory Review of Regulations Administered by the Wireline Competition Bureau

AGENCY: Federal Communications Commission.

ACTION: Final rule.

SUMMARY: In this document, the Federal Communications Commission (Commission or FCC) reviews rules that apply to the operations and activities of providers of telecommunications services and repeals or modifies previous regulations no longer necessary in the public interest, obsolete, outdated, expired of their terms, or containing drafting or typographical errors.

DATES: Effective December 11, 2006.

FOR FURTHER INFORMATION CONTACT: Carrie-Lee Early, Wireline Competition Bureau, (202) 418-2776 or carrielee.early@fcc.gov.

SUPPLEMENTARY INFORMATION: This is a summary of the Commission's Report and Order in WC Docket No. 02-313, adopted June 20, 2006 and released August 21, 2006. The complete text of this document is available for inspection and copying during normal business hours in the FCC Reference Information Center, Portals H, 445 12th Street, SW., Room CY-A257, Washington DC 20554. This document may also be purchased from the Commission's duplicating contractor, Best Copy and Printing, Inc., 445 12th Street, SW., Room CY-B402, Washington, DC 20554, telephone (800) 378-3160 or (202) 863-2893, facsimile (202) 863-2989, or via e-mail at FCC@BIWEB.com. It is also available on the Commission's Web site at http://www.fcc.gov. The Notice of Proposed Rule Making which initiated the rule changes set forth in the Report and Order was published at 69 FR 12814, March 18, 2004. The rule changes do not cause any new information collection requirements subject to the PRA of 1995, Public Law 104-13. They also do not create any new or modified “information collection burden for small business concerns with fewer than 25 employees,” pursuant to the Small Business Paperwork Relief Act of 2002, Public Law 107-198, see 44 U.S.C. 3506(c)(4).

Synopsis of the Report and Order

1. Background. Section 11 of the Communications Act of 1934, as amended (Act), requires the Commission to review biennially its regulations that apply to the operations and activities of providers of telecommunications service and to determine whether the regulations are “no longer necessary as the result of meaningful economic competition between providers of such service.” See 47 U.S.C. 161(a).

2. Discussion. In this Order, we impose no new rules; rather, we repeal or modify regulations that are no longer necessary in the public interest, obsolete, outdated, have expired of their terms, or contain drafting or typographical errors. The revisions reduce regulatory compliance burdens by eliminating the requirements and uncertainties described below.

3. Part 36—Jurisdictional Separations Procedures: With respect to the fundamental principles underlying jurisdictional separations procedures, the Commission clarifies in § 36.2(b)(3)(ii) that holding-time-minutes is the measurement unit for apportioning both local and toll switching plant. The Commission also clarifies, in § 36.2(b)(3)(iv), that subscriber plant is to be apportioned using the 25 percent Gross Allocator.

4. The Commission clarifies, in § 36.125(f), application of the weighting factor in apportioning to interstate jurisdiction certain Category 3 telecommunication property investments for study areas with fewer than 50,000 access lines. The Commission also repeals §§ 36.154(d) through (f) because those sections are no longer in effect, and deletes references to those provisions. Because their termination dates have passed, the Commission also repeals §§ 36.631(a) and (b) and 36.641. The Commission also clarifies the application of § 36.631(d) to apply only non-rural telephone companies serving study areas reporting more than 200,000 working loops. With respect to the universal service fund rules, the Commission clarifies that § 36.631(d) applies only to non-rural telephone companies serving study areas reporting more than 200,000 working loops.

5. In addition, because they reference payphone services that are no longer regulated, the Commission eliminates the last sentence of § 36.142(a) addressing coinless pay telephone equipment and the last sentence of § 36.377(a)(7) addressing expenses related to coin collection and administration.

6. The Commission also corrects three instances of transposed wording in § 36.377(a)(5): in subparagraphs (i) and (v), “interstate” is corrected to “State,” and in subparagraph (vi), “State” is changed to “Interstate.” Similarly, the Commission eliminates, as obsolete, all references to Teletypwriter Exchange Service (TWX) in part 36 because no carrier has reported data through the Automated Reporting Management System (ARMIS) system since it was established in 1988.

7. Part 42—Preservation of Records of Communications Carriers: The United States Telecom Association (USTA) filed comments recommending the elimination of §§ 42.1 through 42.9 asserting that these regulations are outdated and unnecessary. USTA, however, did not offer any support for its assertions, nor did USTA make proposals regarding less costly and more efficient ways to collect, preserve and maintain carrier records and reports. Neither USTA's brief comment nor its incorporation of arguments from previous Biennial Review dockets, convince us that elimination or modification of part 42 is warranted at this time. Accordingly, we conclude that current part 42 record retention requirements assist the Commission to carry out its regulatory responsibilities and therefore continue to be necessary in the public interest at this time.

8. Part 51—Interconnection: The Commission eliminates §§ 51.211(a)-(f), 51.213(c)-(d), which imposed deadlines on Local Exchange Carriers (LECs) and Bell Operating Companies to implement toll dialing parity or to notify the Commission of their failure to do so. The provisions no longer are relevant as the compliance deadlines have expired. Similarly, because their effective dates have expired, the Commission eliminates §§ 51.515(b) and (c) which permitted incumbent LECs to assess certain interstate access charges and intrastate access charges on purchasers of unbundled elements until June 30, 1997.

9. The Commission also eliminates, as no longer necessary in the public interest, § 51.329(c)(3) which required incumbent LECs to send paper and diskette copies of network change public notices or certifications to the Chief of the Wireline Competition Bureau.

10. Part 52—Numbering: With respect to the scope and authority of the numbering rules, the Commission updates part 52 to reflect two developments: it revises the § 52.5 list of United States territories taking part in the North American Numbering Plan (NANP) to reflect American Samoa's participation and changes a reference to the “Common Carrier Bureau” to the “Wireline Competition Bureau.”

11. In addition, regarding numbering administration, because the North American Numbering Council is no longer responsible for recommending to the Commission the entity to serve as the North American Numbering Plan Administrator, the Commission repeals § 52.11(d).

12. Further, because the North American Numbering Plan Administrator, rather than telecommunications carriers, now performs central office code administration, the Commission repeals § 52.15(c), portions of § 52.15(d), and § 52.15(e) in its entirety.

13. The Commission also modifies the introductory paragraph and subsection (3) of § 52.13(b), which governs the duties of the North American Numbering Plan Administrator (NANPA) to reflect the existing role of the Commission in setting numbering policy. The Commission also modifies §§ 52.13(c)(4) and 52.15(b)(3) to reflect that the Numbering Resource Utilization Forecast has replaced the Central Office Code Utilization Survey (COCUS).

14. In the number portability context, the Commission eliminates §§ 52.27 and 52.29 which provided rules applicable to transitional number portability measures because long-term database methods have been developed.

15. Because the timeframe identified in the rule has expired, the Commission also eliminates § 52.31(c) which provided Local Number Portability (LNP) deployment deadlines.

16. Part 53—Special Provisions Concerning Bell Operating Companies: The Commission eliminates § 53.101 because the expiration date of the prohibition against Bell Operating Company joint marketing of local and interLATA services has passed.

17. Part 54—Universal Service: With regard to the rules governing carriers eligible for universal service support, the Commission eliminates § 54.201(a)(2) because the waiver mechanism it provided to state commissions to request retroactive support and eligible telecommunications carrier (ETC) status for certain carriers is no longer necessary in the public interest.

18. With respect to universal service support for high cost areas, the Commission eliminates § 54.313(d)(1) and (2) as the Universal Service Program certification deadlines associated with long term support for non-rural carriers have expired.

19. In the context of universal service support for schools and libraries, the Commission removes obsolete parts of § 54.507(b) which addressed the length of the 1998-1999 funding year, the first year of the Universal Service Schools and Library Program.

20. With respect to universal service support for health care providers, the Commission eliminates expired sections § 54.604(a)(2) and (d) which pertained to specified exemptions to the Universal Service Program competitive bid requirements applicable to eligible health care provider contracts with telecommunications service providers during 1998 and 1999.

21. The Commission eliminates §§ 54.623(c)(2) and (3) as their provisions are redundant or unnecessary. The Commission modifies § 54.623(b) to eliminate an outdated reference to the already-passed initiation of the rural health care mechanism. The Commission also modifies § 54.623(c)(4) to clarify that all applications filed by rural health care providers within the filing window, as determined by the Administrator, will be treated as simultaneously received.

22. Part 63—Extension of Lines, New Lines, and Discontinuance, Reduction, Outage and Impairment of Service by Common Carriers; and Grants of Recognized Private Operating Agency Status: The Commission clarifies, in § 63.61, that non-dominant carriers which seek to discontinue, reduce, or impair service, must file for and receive authority from the Commission in order to take such action. This change was mistakenly omitted when § 63.71 was adopted. The Commission also modifies §§ 63.61 and 63.71 to clarify that the procedures, such as filing deadlines, for the discontinuance, reduction or impairment of international services are governed by § 63.19.

23. In §§ 63.71(a)(5)(i) and (ii) the Commission clarifies descriptions of notice periods and procedures set forth in exemplar language which carriers use to advise affected customers of proposed discontinuances, reductions, or impairments of service, and of their rights to comment to the Commission.

24. Part 64—Miscellaneous Rules Relating to Common Carriers: The Commission repeals the expired September 20, 1998 deadline in § 64.1330(c) to eliminate confusion about the on-going nature of the requirements under section 276 and under §§ 64.1330(a) and (c) regarding public interest payphones.

25. The Commission eliminates § 64.1903(c) which provided certain incumbent independent local exchange carriers a now expired deadline in which to comply with specified obligations to provide services through a separate affiliate. The Commission also deletes the cross reference to § 64.1903(c) set forth in § 64.1903(a).

26. Part 69—Access Charges: The Commission deletes rules with effective dates which have passed or which are no longer relevant to the carriers to which they had applied: § 69.116 which set forth a computation formula applicable to an access charge which was to fund the Universal Service Fund during the August 1, 1988 through December 31, 1997 time period; § 69.117 which set forth a computation formula applicable to an access charge which was to fund the Lifeline Assistance during the August 1, 1988 through December 31, 1997 time period; § 69.126 which provided a time frame for specified nonrecurring charges by incumbent local exchange carriers which is no longer relevant; § 69.127 which set forth a Transitional Equal Charge Rule which has been superceded by subsequent tariffs; and § 69.612 which defined the computation methods for the Long Term and Transitional Support payment obligations but has also expired.

27. Paperwork Reduction Act Analysis: According to the terms of the Paperwork Reduction Act of 1995, Pub. L. 104-13, the modifications engendered by the rules changes do not contain new or modified information collections subject to Office of Management and Budget review.

28. Final Regulatory Flexibility Certification: The Commission provides a Final Regulatory Flexibility Certification that the requirements of the Report and Order will not have a significant economic effect on a substantial number of small entities.

29. Report to Congress: The Commission will send a copy of the Order, including its Final Regulatory Flexibility Certification, in a report to be sent to Congress and the Government Accountability Office pursuant to the Congressional Review Act. In addition, the Commission will send a copy of the Order including its Final Regulatory Flexibility Certification, to the Chief Counsel for Advocacy of the Small Business Administration. A copy of this present summarized Order and Final Regulatory Flexibility Certification is also hereby published in the Federal Register.

Ordering Clauses

30. Accordingly, it is ordered that, pursuant to sections 1, 3, 4(i), 4(j), 201, 205, and 403, of the Communications Act of 1934, as amended, 47 U.S.C. 151, 153, 154, 201-205, and 403, the Report and Order is adopted.

31. It is further ordered, pursuant to sections 4(i), 4(j), 201, 205, 303(r), and 403 of the Communications Act of 1934, as amended, 47 U.S.C. 154(i)-(j), 201-205, 303(r), 403, and section 553 of Title 5, United States Code, that revisions to parts 36, 51, 52, 53, 54, 63, 64, and 69 of the Commission's rules are adopted.

32. It is further ordered, that the Commission's Consumer and Governmental Affairs Bureau, Reference Information Center, shall send a copy of this Report and Order, including the Final Regulatory Flexibility Certification, to the Chief Counsel for Advocacy of the Small Business Administration.

33. It is further ordered, that the Commission's Consumer and Governmental Affairs Bureau, Reference Information Center, shall send a copy of this Report and Order in a report to be sent to Congress and the Government Accountability Office pursuant to the Congressional Review Act, see 5 U.S.C. 801(a)(1)(A).

34. It is further ordered, that the provisions of the Report and Order will be effective December 11, 2006.

List of Subjects

47 CFR Part 36

Communications common carriers, Reporting and recordkeeping requirements, Telephone, Uniform system of Accounts.

47 CFR Part 51

Communications common carriers, Telecommunications.

47 CFR Part 52

Communications common carriers, Telecommunications, Telephone.

47 CFR Part 53

Communications common carriers, Telephone.

47 CFR Part 54

Communications common carriers, Health facilities, Infants and Children, Libraries, Reporting and recordkeeping requirements, Telecommunications, Telephone.

47 CFR Part 63

Communications common carriers, Reporting and recordkeeping requirements, Telephone, Telegraph.

47 CFR Part 64

Telecommunications, Telephone.

47 CFR Part 69

Communications common carriers, Reporting and recordkeeping requirements, Telephone.

Federal Communications Commission.
Marlene H. Dortch,
Secretary.

Rule Changes

For the reasons discussed in the preamble, the Federal Communications Commission amends 47 CFR parts 36, 51, 52, 53, 54, 63, 64 and 69 as follows:

PART 36—JURISDICTIONAL SEPARATIONS PROCEDURES; STANDARD PROCEDURES FOR SEPARATING TELECOMMUNICATIONS PROPERTY COSTS, REVENUES, EXPENSES, TAXES AND RESERVES FOR TELECOMMUNICATIONS COMPANIES

1. The authority citation for part 36 continues to read as follows:

Authority: 47 U.S.C. 151, 154(i) and (j), 205, 221(c), 254, 403, and 410.

2. Amend § 36.2 by revising paragraphs (b)(3)(ii) and (b)(3)(iv) to read as follows:

§ 36.2 Fundamental principles underlying procedures.

* * * * *

(b) * * *

(3) * * *

(ii) Holding-time-minutes is the basis for measuring the use of local and toll switching plant.

* * * * *

(iv) Message telecommunications subscriber plant shall be apportioned on the basis of a Gross Allocator which assigns 25 percent to the interstate jurisdiction and 75 percent to the state jurisdiction.

* * * * *

3. Amend § 36.125 by revising paragraph (f) to read as follows:

§ 36.125 Local switching equipment—Category 3.

* * * * *

(f) Beginning January 1, 1998, for study areas with fewer than 50,000 access lines, Category 3 investment is apportioned to the interstate jurisdiction by the application of an interstate allocation factor that is the lesser of either .85 or the sum of the interstate DEM factor specified in paragraph (a)(5) of this section, and the difference between the 1996 interstate DEM factor and the 1996 interstate DEM factor multiplied by a weighting factor as determined by the table below. The Category 3 investment that is not assigned to the interstate jurisdiction pursuant to this paragraph is assigned to the state jurisdiction.

Number of access lines in service in study area | Weighting factor
0-10,000 | 3.0
10,001-20,000 | 2.5
20,001-50,000 | 2.0
50,001-or above | 1.0

* * * * *

4. Amend § 36.126 by revising paragraphs (e)(2), (e)(3) introductory text, (e)(3)(i) and (iii), and by removing and reserving paragraph (e)(3)(ii) to read as follows:

§ 36.126 Circuit equipment-Category 4.

* * * * *

(e) * * *

(2) Interexchange Circuit Equipment Used for Wideband Service—Category 4.22—This category includes the circuit equipment portion of interexchange channels used for wideband services. The cost of interexchange circuit equipment in this category is determined separately for each wideband channel and is segregated between message and private line services on the basis of the use of the channels provided. The respective costs are allocated to the appropriate operation in the same manner as the related interexchange cable and wire facilities described in § 36.156.

(3) All Other Interexchange Circuit Equipment—Category 4.23—This category includes the cost of all interexchange circuit equipment not assigned to Categories 4.21 and 4.22. The cost of interexchange basic circuit equipment used for the following classes of circuits is included in this category: Jointly used message circuits, i.e., message switching plant circuits carrying messages from the state and interstate operations; circuits used for state private line service; and circuits used for state private line services.

(i) An average interexchange circuit equipment cost per equivalent interexchange telephone termination for all circuits is determined and applied to the equivalent interexchange telephone termination counts of each of the following classes of circuits: Private Line, State Private Line, Message. The cost of interstate private line circuits is assigned directly to the interstate operation. The cost of state private line circuits is assigned directly to the state operation. The cost of message circuits is apportioned between the state and interstate operations on the basis of the relative number of study area conversation-minutes applicable to such facilities.

* * * * *

(iii) The cost of special circuit equipment is segregated among telegraph grade private line services and other private line services based on an analysis of the use of the equipment and in accordance with § 36.126(b)(4). The special circuit equipment cost assigned to telegraph grade and other private line services is directly assigned to the appropriate operations.

* * * * *

5. Amend § 36.142 by revising paragraph (a) to read as follows:

§ 36.142 Categories and apportionment procedures.

(a) Other Information Origination/Termination Equipment—Category 1. This category includes the cost of other information origination/termination equipment not assigned to Category 2. The costs of other information origination/termination equipment are allocated pursuant to the factor that is used to allocate subcategory 1.3 Exchange Line C&WF.

* * * * *

6. Amend § 36.152 by revising paragraphs (a)(1) and (a)(2) to read as follows:

§ 36.152 Categories of Cable and Wire Facilities (C&WF).

(a) * * *

(1) Exchange Line C&WF Excluding Wideband—Category 1—This category includes C&W facilities between local central offices and subscriber premises used for message telephone, private line, local channels, and for circuits between control terminals and radio stations providing very high frequency maritime service or urban or highway mobile service.

(2) Wideband and Exchange Trunk C&WF—Category 2—This category includes all wideband, including Exchange Line Wideband and C&WF between local central offices and Wideband facilities. It also includes C&WF between central offices or other switching points used by any common carrier for interlocal trunks wholly within an exchange or metropolitan service area, interlocal trunks with one or both terminals outside a metropolitan service area carrying some exchange traffic, toll connecting trunks, tandem trunks principally carrying exchange traffic, the exchange trunk portion of WATS access lines, the exchange trunk portion of private line local channels, and the exchange trunk portion of circuits between control terminals and radio stations providing very high frequency maritime service or urban or highway mobile service.

* * * * *

7. Amend § 36.154 by revising paragraph (c) and by removing and reserving paragraphs (d), (e) and (f) to read as follows:

§ 36.154 Exchange Line Cable and Wire Facilities (C&WF)—Category 1—apportionment procedures.

* * * * *

(c) Effective January 1, 1986, 25 percent of the costs assigned to subcategory 1.3 shall be allocated to the interstate jurisdiction.

* * * * *

8. Amend § 36.156 by revising paragraph (b) to read as follows:

§ 36.156 Interexchange Cable and Wire Facilities (C&WF)—Category 3—apportionment procedures.

* * * * *

(b) The cost of C&WF applicable to this category shall be directly assigned where feasible. If direct assignment is not feasible, cost shall be apportioned between the state and interstate jurisdiction on the basis of conversation-minute kilometers as applied to toll message circuits, etc.

* * * * *

9. Amend § 36.212 by revising paragraph (c) to read as follows:

§ 36.212 Basic local services revenue—Account 5000.

* * * * *

(c) Wideband Message Service revenues from monthly and miscellaneous charges, service connections, move and change charges, are apportioned between state and interstate operations on the basis of the relative number of minutes-of-use in the study area. Effective July 1, 2001, through June 30, 2006, all study areas shall apportion Wideband Message Service revenues among the jurisdictions using the relative number of minutes of use for the twelve-month period ending December 31, 2000.

* * * * *

10. Amend § 36.214 by revising paragraph (a) to read as follows:

§ 36.214 Long distance message revenue—Account 5100.

(a) Wideband message service revenues from monthly and miscellaneous charges, service connections, move and change charges, are apportioned between state and interstate operations on the basis of the relative number of minutes-of-use in the study area. Effective July 1, 2001 through June 30, 2006, all study areas shall apportion Wideband Message Service revenues among the jurisdictions using the relative number of minutes of use for the twelve-month period ending December 31, 2000.

* * * * *

§ 36.375 [Amended].

11. Amend § 36.375 by removing paragraph (b)(2) and redesignating paragraphs (b)(3) through (b)(6) as (b)(2) through (b)(5).

12. Amend § 36.377 by removing and reserving paragraphs (a)(1)(viii), (a)(2)(vi), (a)(3)(v), and (a)(7) and by revising paragraphs (a)(1) introductory text, (a)(2) introductory text, (a)(2)(vii), (a)(3) introductory text , (a)(3)(vii), (a)(5)(i), (a)(5)(v), and (a)(5)(vi) to read as follows:

§ 36.377 Category 1—Local business office expense.

(a) * * *

(1) End-user service order processing includes expenses related to the receipt and processing of end users' orders for service and inquiries concerning service. This subcategory does not include any service order processing expenses for services provided to the interexchange carriers. End user service order processing expenses are first segregated into the following subcategories based on the relative number of actual contacts which are weighted, if appropriate, to reflect differences in the average work time per contact: Local service order processing; presubscription; directory advertising; State private line and special access; interstate private line and special access; other State message toll including WATS; other interstate message toll including WATS.

* * * * *

(2) End user payment and collection includes expenses incurred in relation to the payment and collection of amounts billed to end users. It also includes commissions paid to payment agencies (which receive payment on customer accounts) and collection agencies. This category does not include any payment or collection expenses for services provided to interexchange carriers. End user payment and collection expenses are first segregated into the following subcategories based on relative total state and interstate billed revenues (excluding revenues billed to interexchange carriers and/or revenues deposited in coin boxes) for services for which end user payment and collection is provided: State private line and special access; interstate private line and special access; State message toll including WATS; interstate message toll including WATS, and interstate subscriber line charge; local, including directory advertising.

* * * * *

(vii) Effective July 1, 2001, through June 30, 2006, study areas subject to price cap regulation, pursuant to § 61.41 of this chapter, shall assign the balance of Account 6620—Services to the subcategories, as specified in §§ 36.377(a)(2)(i) through 36.377(a)(2)(vi), based on the relative percentage assignment of the balance of Account 6620 to these categories/subcategories during the twelve month period ending December 31, 2000. All other subcategories of End User payment and collection expense, as specified in §§ 36.377(a)(2)(i) through 36.377(a)(2)(v), shall be directly assigned.

* * * * *

(3) End user billing inquiry includes expenses related to handling end users' inquiries concerning their bills. This category does not include expenses related to the inquiries of interexchange carriers concerning their bills. End user billing inquiry costs are first segregated into the following subcategories based on the relative number of actual contracts, weighted if appropriate, to reflect differences in the average work time per contact: State private line and special access; interstate private line and special access; State message toll including WATS, interstate message toll including WATS, interstate subscriber line charge; and other.

* * * * *

(vii) Effective July 1, 2001 through June 30, 2006 study areas subject to price cap regulation, pursuant to § 61.41 of this chapter, shall assign the balance of Account 6620—Services to the subcategories, as specified in §§ 36.377(a)(3)(i) through 36.377(a)(3)(vi), based on the relative percentage assignment of the balance of Account 6620 to these subcategories during the twelve month period ending December 31, 2000. All other subcategories of End user billing inquiry expense, as specified in §§ 36.377(a)(3)(i) through 36.377(a)(3)(vi), shall be directly assigned.

* * * * *

(5) * * *

(i) State special access and private line payment and collection expense is directly assigned to the State jurisdiction.

* * * * *

(v) State billing and collection payment and collection expense is directly assigned to the State jurisdiction.

(vi) Interstate billing and collection payment and collection expense is directly assigned to the interstate jurisdiction.

* * * * *

13. Amend § 36.631 by removing and reserving paragraphs (a) and (b) and by revising paragraph (d) introductory text to read as follows:

§ 36.631 Expense adjustment.

* * * * *

(d) Beginning January 1, 1998, for study areas reporting more than 200,000 working loops pursuant to § 36.611(h), the expense adjustment (additional interstate expense allocation) is equal to the sum of paragraphs (d)(1) through (4) of this section. After January 1, 2000, the expense adjustment (additional interstate expense allocation) for non-rural telephone companies serving study areas reporting more than 200,000 working loops pursuant to § 36.611(h) shall be calculated pursuant to § 54.309 of this chapter or § 54.311 of this chapter (which relies on this part), whichever is applicable.

* * * * *

§ 36.641 [Removed].

14. Remove § 36.641.

15. Revise Appendix to Part 36—Glossary to read as follows:

Appendix to Part 36—Glossary

The descriptions of terms in this glossary are broad and have been prepared to assist in understanding the use of such terms in the separation procedures. Terms which are defined in the text of this part are not included in this glossary.

Access Line

A communications facility extending from a customer's premises to a serving central office comprising a subscriber line and, if necessary, a trunk facility, e.g., a WATS access line.

Book Cost

The cost of property as recorded on the books of a company.

Cable Fill Factor

The ratio of cable conductor or cable pair kilometers in use to total cable conductor or cable pair kilometers available in the plant, e.g., the ratio of revenue producing cable pair kilometers in use to total cable pair kilometers in plant.

Category

A grouping of items of property or expense to facilitate the apportionment of their costs among the operations and to which, ordinarily, a common measure of use is applicable.

Central Office

A switching unit, in a telephone system which provides service to the general public, having the necessary equipment and operations arrangements for terminating and interconnecting subscriber lines and trunks or trunks only. There may be more than one central office in a building.

Channel

An electrical path suitable for the transmission of communications between two or more points, ordinarily between two or more stations or between channel terminations in Telecommunication Company central offices. A channel may be furnished by wire, fiberoptics, radio or a combination thereof.

Circuit

A fully operative communications path established in the normal circuit layout and currently used for message, WATS access, or private line services.

Circuit Kilometers

The route kilometers or revenue producing circuits in service, determined by measuring the length in terms of kilometers, of the actual path followed by the transmission medium.

Common Channel Network Signaling

Channels between switching offices used to transmit signaling information independent of the subscribers' communication paths or transmission channels.

Complement (of cable)

A group of conductors of the same general type (e.g., quadded, paired) within a single cable sheath.

Complex

All groups of operator positions, wherever located, associated with the same call distribution and/or stored program control unit.

Concentration Equipment

Central office equipment whose function is to concentrate traffic from subscriber lines onto a lesser number of circuits between the remotely located concentration equipment and the serving central office concentration equipment. This concentration equipment is connected to the serving central office line equipment.

Connection—Minute

The product of (a) the number of messages and, (b) the average minutes of connection per message.

Conversation—Minute

The product of (a) the number of messages and, (b) the average minutes of conversation per message.

Conversation—Minute—Kilometers

The product of (a) the number of messages, (b) the average minutes of conversation per message and (c) the average route kilometers of circuits involved.

Cost

The cost of property owned by the Telephone Company whose property is to be apportioned among the operations. This term applies either to property costs recorded on the books of the company or property costs determined by other evaluation methods.

Current Billing

The combined amount of charges billed, excluding arrears.

Customer Dialed Charge Traffic

Traffic which is both (a) handled to completion through pulses generated by the customer and (b) for which either a message unit change, bulk charge or message toll charge is except for that traffic recorded by means of message registers.

Customer Premises Equipment

Items of telecommunications terminal equipment in Accounts 2310 referred to as CPE in § 64.702 of the Federal Communication Commission's Rules adopted in the Second Computer Inquiry such as telephone instruments, data sets, dialers and other supplemental equipment, and PBX's which are provided by common carriers and located on customer premises and inventory included in these accounts to be used for such purposes. Excluded from this classification are similar items of equipment located on telephone company premises and used by the company in the normal course of business as well as over voltage protection equipment, customer premises wiring, coin operated public or pay telephones, multiplexing equipment to deliver multiple channels to the customer, mobile radio equipment and transmit earth stations.

Customer Premises Wire

The segment of wiring from the customer's side of the protector to the customer premises equipment.

DSA Board

A local dial office switchboard at which are handled assistance calls, intercepted calls and calls from miscellaneous lines and trunks. It may also be employed for handling certain toll calls.

DSB Board

A switchboard of a dial system for completing incoming calls received from manual offices.

Data Processing Equipment

Office equipment such as that using punched cards, punched tape, magnetic or other comparable storage media as an operating vehicle for recording and processing information. Includes machines for transcribing raw data into punched cards, etc., but does not include such items as key-operated, manually or electrically driven adding, calculating, bookkeeping or billing machines, typewriters or similar equipment.

Dial Switching Equipment

Switching equipment actuated by electrical impulses generated by a dial or key pulsing arrangement.

Equal Access Costs

Include only initial incremental presubscription costs and initial incremental expenditures for hardware and software related directly to the provision of equal access which would not be required to upgrade the switching capabilities of the office involved absent the provisions of equal access.

Equivalent Gauge

A standard cross section of cable conductors for use in equating the metallic content of cable conductors of all gauge to a common base.

Equivalent Kilometers of 104 Wire

The basic units employed in the allocation of pole lines costs for determining the relative use made of poles by aerial cables and by aerial wire conductors of various sizes. This unit reflects the relative loads of such cable and wire carried on poles.

Equivalent Pair Kilometers

The product of sheath Kilometers and the number of equivalent gauge pairs of conductors in a cable.

Equivalent Sheath Kilometers

The product of (a) the length of a section of cable in kilometers (sheath kilometers) and (b) the ratio of the metallic content applicable to a particular group of conductors in the cable (e.g., conductors assigned to a category) to the metallic content of all conductors in the cable.

Exchange Transmission Plant

This is a combination of (a) exchange cable and wire facilities (b) exchange central office circuit equipment, including associated land and buildings and (c) information origination/termination equipment which forms a complete channel.

Holding Time

The time in which an item of telephone plant is in actual use either by a customer or an operator. For example, on a completed telephone call, holding time includes conversation time as well as other time in use. At local dial offices any measured minutes which result from other than customer attempts to place calls (as evidenced by the dialing of at least one digit) are not treated as holding time.

Host Central Office

An electronic analog or digital base switching unit containing the central call processing functions which service the host office and its remote locations.

Information Origination/Termination Equipment

Equipment used to input into or receive output from the telecommunications network.

Interexchange Channel

A circuit which is included in the interexchange transmission equipment.

Interexchange Transmission Equipment

The combination of (a) interexchange cable and wire facilities, (b) interexchange circuit equipment and, (c) associated land and buildings.

Interlocal Trunk

A circuit between two local central office units, either manual or dial. Interlocal trunks may be used for either exchange or toll traffic or both.

Intertoll Circuits

Circuits between toll centers and circuits between a toll center and a tandem system in a different toll center area.

Local Channel

The portion of a private line circuit which is included in the exchange transmission plant. However, common usage of this term usually excludes information origination/termination equipment.

Local Office

A central office serving primarily as a place of termination for subscriber lines and for providing telephone service to the subscribers on these lines.

Loop

A pair of wires, or its equivalent, between a customer's station and the central office from which the station is served.

Message

A completed call, i.e., a communication in which a conversation or exchange of information took place between the calling and called parties.

Message Service or Message Toll Service

Switched service furnished to the general public (as distinguished from private line service). Except as otherwise provided, this includes exchange switched services and all switched services provided by interexchange carriers and completed by a local telephone company's access services, e.g., MTS, WATS, Execunet, open-end FX and CCSA/ONALs.

Message Units

Unit of measurement used for charging for measured message telephone exchange traffic within a specified area.

Metropolitan Service Area

The area around and including a relatively large city and in which substantially all of the message telephone traffic between the city and the suburban points within the area is classified as exchange in one or both directions.

Minutes-of-Use

A unit of measurement expressed as either holding time or conversation time.

Minutes-of-Use-Kilometers

The product of (a) the number of minutes-of-use and (b) the average route kilometers of circuits involved.

Multi-Center Exchange

An exchange area in which are located two or more local central office buildings or wire centers.

Operations

The term denoting the general classifications of services rendered to the public for which separate tariffs are filed, namely exchange, state toll and interstate toll.

Operator Trunks

A general term, ordinarily applied to trunks between manually operated switchboard positions and local dial central offices in the same wire center.

Private Line Service

A service for communications between specified locations for a continuous period or for regularly recurring periods at stated hours.

Remote Access Line

An access line (e.g., for WATS service) between a subscriber's premises in one toll rate center and a serving central office located in a different toll rate center.

Remote Line Location

A remotely located subscriber line access unit which is normally dependent upon the central processor of the host office for call processing functions.

Remote Trunk Arrangement (RTA)

Arrangement that permits the extension of TSPS functions to remote locations.

Reservation

That amount or quantity of property kept or set apart for a specific use.

Reserved

Kept or set apart for a specific use.

Separations

The process by which telecommunication property costs, revenues, expenses, taxes and reserves are apportioned among the operations.

Service Observing Unit

A unit of work measurement which is used as the common denominator to express the relative time required for handling the various work functions at service observing boards.

Sheath Kilometers

The actual length of cable in route kilometers.

Special Services

All services other than message telephones, e.g., private line services.

Station-to-Station Basis

The term applied to the basis of toll rate making which contemplates that the message toll service charge (telephone) covers the use made of all facilities between the originating station and the terminating station, including the stations, and the services rendered in connection therewith.

Study Area

Study area boundaries shall be frozen as they are on November 15, 1984.

Subscriber Line or Exchange Line

A communication channel between a telephone station or PBX station and the central office which serves it.

Subtributary Office

A class of tributary office which does not have direct access to its toll center, but which is connected to its toll center office by means of circuits which are switched through to the toll center at another tributary office.

Tandem Area

The general areas served by the local offices having direct trunks to or from the tandem office. This area may consist of one or more communities or may include only a portion of a relatively large city.

Tandem Circuit or Trunk

A general classification of circuits or trunks between a tandem central office unit and any other central office or switchboard.

Tandem Connection

A call switched at a tandem office.

Tandem Office

A central office unit used primarily as an intermediate switching point for traffic between local central offices within the tandem area. Where qualified by a modifying expression, or other explanation, this term may be applied to an office employed for both the interconnection of local central offices within the tandem area and for the interconnection of these local offices with other central offices, e.g., long haul tandem office.

Toll Center

An office (or group of offices) within a city which generally handles the originating and incoming toll traffic for that city to or from other toll center areas and which handles through switched traffic. The toll center normally handles the inward toll traffic for its tributary exchanges and, in general, either handles the outward traffic originating at its tributaries or serves as the outlet to interexchange circuits for outward traffic ticketed and timed at its tributaries. Toll centers are listed as such in the Toll Rate and Route Guide.

Toll Center Area

The areas served by a toll center, including the toll center city and the communities served by tributaries of the toll center.

Toll Center Toll Office

A toll office (as contrasted to a local office) in a toll center city.

Toll Circuit

A general term applied to interexchange trunks used primarily for toll traffic.

Toll Connecting Trunk

A general classification of trunks carrying toll traffic and ordinarily extending between a local office and a toll office, except trunks classified as tributary circuits. Examples of toll connecting trunks include toll switching trunks, recording trunks and recording-completing trunks.

Toll Office

A central office used primarily for supervising and switching toll traffic.

Traffic Over First Routes

A term applied to the routing of traffic and denoting routing via principal route for traffic between any two points as distinguished from alternate routes for such traffic.

Operator System

A stored program electronic system associated with one or more toll switching systems which provides centralized traffic service position functions for several local offices at one location.

Tributary Circuit

A circuit between a tributary office and a toll switchboard or intertoll dialing equipment in a toll center city.

Tributary Office

A local office which is located outside the exchange in which a toll center is located, which has a different rate center from its toll center and which usually tickets and times only a part of its originating toll traffic, but which may ticket or time all or none, of such traffic. The toll center handles all outward traffic not ticketed and timed at the tributary and normally switches all inward toll traffic from outside the tributary's toll center to the tributary. Tributary offices are indicated as such in the Toll Rate and Route Guide.

Trunks

Circuit between switchboards or other switching equipment, as distinguished from circuits which extend between central office switching equipment and information origination/termination equipment.

TSPS Complex

All groups of operator positions, wherever located, associated with the same TSPS stored program control units.

Weighted Standard Work Second

A measurement of traffic operating work which is used to express the relative time required to handle the various kinds of calls or work functions, and which is weighted to reflect appropriate degrees of waiting to serve time.

Wide Area Telephone Service WATS

A toll service offering for customer dial type telecommunications between a given customer station and stations within specified geographic rate areas employing a single access line between the customer location and the serving central office. Each access line may be arranged for either outward (OUT-WATS) or inward (IN-WATS) service or both.

Wideband Channel

A communication channel of a bandwidth equivalent to twelve or more voice grade channels.

Working Loop

A revenue producing pair of wires, or its equivalent, between a customer's station and the central office from which the station is served.

PART 51—INTERCONNECTION

16. The authority citation for part 51 continues to read as follows:

Authority: Sections 1-5, 7, 201-05, 207-09, 218, 225-27, 251-54, 256, 271, 303(r), 332, 48 Stat. 1070, as amended, 1077; 47 U.S.C. 151-55, 157, 201-05, 207-09, 218, 225-27, 251-54, 256, 271, 303(r), 332, 47 U.S.C. 157 note, unless otherwise noted.

§ 51.211 [Removed].

17. Remove § 51.211.

§ 51.213 [Amended].

18. Amend § 51.213 by removing paragraphs (c) and (d).

§ 51.329 [Amended].

19. Amend § 51.329 by removing paragraph (c)(3).

§ 51.515 [Amended].

20. Amend § 51.515 by removing and reserving paragraphs (a) and (b).

PART 52—NUMBERING

21. The authority citation for part 52 continues to read as follows:

Authority: Sec. 1, 2, 4, 5, 48 Stat. 1066, as amended; 47 U.S.C. 151, 152, 154, 155 unless otherwise noted. Interpret or apply secs. 3, 4, 201-05, 207-09, 218, 225-7, 251-2, 271 and 332, 48 Stat. 1070, as amended, 1077; 47 U.S.C. 153, 154, 201-05, 207-09, 218, 225-7, 251-2, 271 and 332 unless otherwise noted.

22. Amend § 52.5 by revising paragraph (c) to read as follows:

§ 52.5 Definitions.

* * * * *

(c) North American Numbering Plan (NANP). The “North American Numbering Plan” is the basic numbering scheme for the telecommunications networks located in American Samoa, Anguilla, Antigua, Bahamas, Barbados, Bermuda, British Virgin Islands, Canada, Cayman Islands, Dominica, Dominican Republic, Grenada, Jamaica, Montserrat, St. Kitts & Nevis, St. Lucia, St. Vincent, Turks & Caicos Islands, Trinidad & Tobago, and the United States (including Puerto Rico, the U.S. Virgin Islands, Guam, the Commonwealth of the Northern Mariana Islands).

* * * * *

§ 52.11 [Amended].

23. Amend § 52.11 by removing and reserving paragraph (d).

24. Amend § 52.13 by revising paragraphs (b) introductory text, (b)(3) and (c)(4) to read as follows:

§ 52.13 North American Numbering Plan Administrator.

* * * * *

(b) The NANPA shall administer the numbering resources identified in paragraph (d) of this section. It shall assign and administer NANP resources in an efficient, effective, fair, unbiased, and non-discriminatory manner consistent with industry-developed guidelines and Commission regulations. It shall support the Commission's efforts to accommodate current and future numbering needs. It shall perform additional functions, including but not limited to:

* * * * *

(3) Complying with guidelines of the North American Industry Numbering Committee (INC) or its successor, related industry documentation, Commission regulations and orders, and the guidelines of other appropriate policy-making authorities;

* * * * *

(c) * * *

(4) Manage projects such as Numbering Plan Area (NPA) relief (area code relief) planning, Numbering Resource Utilization and Forecast (NRUF) data collection, and NPA and NANP exhaust projection;

* * * * *

25. Amend § 52.15 by removing and reserving paragraphs (c) and (e) and by revising paragraphs (b)(3) and (d) to read as follows:

§ 52.15 Central office code administration.

* * * * *

(b) * * *

(3) Conducting the Numbering Resource Utilization and Forecast (NRUF) data collection;

* * * * *

(d) Central Office (CO) Code Administration functional requirements. The NANPA shall manage the United States CO code numbering resource, including CO code request processing, NPA code relief and jeopardy planning, and industry notification functions. The NANPA shall perform its CO Code administration functions in accordance with the published industry numbering resource administration guidelines and Commission orders and regulations of 47 CFR chapter I.

* * * * *

§ 52.27 [Removed].

26. Remove § 52.27.

§ 52.29 [Removed].

27. Remove § 52.29.

§ 52.31 [Amended].

28. Amend § 52.31 by removing and reserving paragraph (c).

PART 53—SPECIAL PROVISIONS CONCERNING BELL OPERATING COMPANIES

29. The authority citation for part 53 continues to read as follows:

Authority: Sections 1-5, 7, 201-05, 218, 251, 253, 271-75, 48 Stat. 1070, as amended, 1077; 47 U.S.C. 151-55, 157, 201-05, 218, 251, 253, 271-75, unless otherwise noted.

§ 53.101 [Removed].

30. Remove § 53.101.

PART 54—UNIVERSAL SERVICE

31. The authority citation for part 54 continues to read as follows:

Authority: 47 U.S.C. 1, 4(i), 201, 205, 214, and 254 unless otherwise noted.

§ 54.201 [Amended].

32. Amend § 54.201 by removing and reserving paragraph (a)(2).

§ 54.313 [Amended].

33. Amend § 54.313 by removing and reserving paragraphs (d)(1) and (d)(2).

34. Amend § 54.507 by revising paragraph (b) to read as follows:

§ 54.507 Cap.

* * * * *

(b) A funding year for purposes of the schools and libraries cap shall be the period July 1 through June 30.

* * * * *

35. Amend § 54.604 by revising paragraph (a)(1), removing and reserving (a)(2), and removing paragraph (d) to read as follows:

§ 54.604 Existing contracts.

(a) * * *

(1) A contract signed on or before July 10, 1997 is exempt from the competitive bid requirement for the life of the contract.

* * * * *

36. Amend § 54.623 by removing and reserving paragraphs (c)(2) and (c)(3) and by revising paragraph (c)(4) to read as follows:

§ 54.623 Cap.

* * * * *

(c) * * *

(4) The Administrator shall implement a filing period that treats all rural health care providers filing within the period as if their applications were simultaneously received.

* * * * *

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

37. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

38. Revise § 63.61 to read as follows:

§ 63.61 Applicability.

Any carrier subject to the provisions of section 214 of the Communications Act of 1934, as amended, proposing to discontinue, reduce or impair interstate or foreign telephone or telegraph service to a community, or a part of a community, shall request authority therefor by formal application or informal request as specified in the pertinent sections of this part:

(a) Provided, however, that where service is expanded on an experimental basis for a temporary period of not more than 6 months, no application shall be required to reduce service to its status prior to such expansion but a written notice shall be filed with the Commission within 10 days of the reduction showing:

(1) The date on which, places at which, and extent to which service was expanded; and,

(2) The date on which, places at which, and extent to which such expansion of service was discontinued.

(b) And provided further that a licensee of a radio station who has filed an application for authority to discontinue service provided by such station shall during the period that such application is pending before the Commission, continue to file appropriate applications as may be necessary for extension or renewal of station license in order to provide legal authorization for such station to continue in operation pending final action on the application for discontinuance of service. Procedures for discontinuance, reduction or impairment of service by dominant and non-dominant, domestic carriers are in § 63.71. Procedures for discontinuance, reduction or impairment of international services are in § 63.19.

39. Amend § 63.71 by revising paragraphs (a)(5)(i), (a)(5)(ii) and add new paragraph (d) to read as follows:

§ 63.71 Procedures for discontinuance, reduction or impairment of service for domestic carriers.

* * * * *

(a) * * *

(5) * * *

(i) If the carrier is non-dominant with respect to the service being discontinued, reduced or impaired, the notice shall state: The FCC will normally authorize this proposed discontinuance of service (or reduction or impairment) unless it is shown that customers would be unable to receive service or a reasonable substitute from another carrier or that the public convenience and necessity is otherwise adversely affected. If you wish to object, you should file your comments as soon as possible, but no later than 15 days after the Commission releases public notice of the proposed discontinuance. Address them to the Federal Communications Commission, Wireline Competition Bureau, Competition Policy Division, Washington, DC 20054, and include in your comments a reference to the § 63.71 Application of (carrier's name). Comments should include specific information about the impact of this proposed discontinuance (or reduction or impairment) upon you or your company, including any inability to acquire reasonable substitute service.

(ii) If the carrier is dominant with respect to the service being discontinued, reduced or impaired, the notice shall state: The FCC will normally authorize this proposed discontinuance of service (or reduction or impairment) unless it is shown that customers would be unable to receive service or a reasonable substitute from another carrier or that the public convenience and necessity is otherwise adversely affected. If you wish to object, you should file your comments as soon as possible, but no later than 30 days after the Commission releases public notice of the proposed discontinuance. Address them to the Federal Communications Commission, Wireline Competition Bureau, Competition Policy Division, Washington, DC 20054, and include in your comments a reference to the § 63.71 Application of (carrier's name). Comments should include specific information about the impact of this proposed discontinuance (or reduction or impairment) upon you or your company, including any inability to acquire reasonable substitute service.

* * * * *

(d) Procedures for discontinuance, reduction or impairment of international services are in § 63.19.

PART 64—MISCELLANEOUS RULES RELATING TO COMMON CARRIERS

40. The authority citation for part 64 continues to read as follows:

Authority: 47 U.S.C. 154, 254(k); secs. 403(b)(2)(B),(c), Pub. L. 104-104, 110 Stat. 56. Interpret or apply 47 U.S.C. 201, 218, 222, 225, 226, 228, and 254 (k) unless otherwise noted.

41. Amend § 64.1330 by revising paragraph (c) to read as follows:

§ 64.1330 State review of payphone entry and exit regulations and public interest payphones.

* * * * *

(c) Each state must review its rules and policies to determine whether it has provided for public interest payphones consistent with applicable Commission guidelines, evaluate whether it needs to take measures to ensure that such payphones will continue to exist in light of the Commission's implementation of Section 276 of the Communications Act, and administer and fund such programs so that such payphones are supported fairly and equitably.

42. Amend § 64.1903 by revising paragraph (a) introductory text and by removing paragraph (c) to read as follows:

§ 64.1903 Obligations of all incumbent independent local exchange carriers.

(a) An incumbent independent LEC providing in-region, interstate, interexchange services or in-region international interexchange services shall provide such services through an affiliate that satisfies the following requirements:

* * * * *

PART 69—ACCESS CHARGES

43. The authority citation for part 69 continues to read as follows:

Authority: 47 U.S.C. 154, 201, 202, 203, 205, 218, 220, 254, 403.

§§ 69.116 and 69.117 [Removed].

44. Remove §§ 69.116 and 69.117.

§§ 69.126 and 69.127 [Removed].

45. Remove §§ 69.126 and 69.127.

§ 69.612 [Removed].

46. Remove § 69.612.

[FR Doc. E6-18842 Filed 11-8-06; 8:45 am]

BILLING CODE 6712-01-P